SECURITIES AND EXCHANGE COMMISSION

[Release No. 34-80609; File No. SR-CBOE-2017-019]

Self-Regulatory Organizations; Chicago Board Options Exchange, Incorporated; Notice of Designation of a Longer Period for Commission Action on Proposed Rule Change Related to Complex Orders

May 5, 2017.

On March 7, 2017, Chicago Board Options Exchange, Incorporated (the “Exchange” or “CBOE”) filed with the Securities and Exchange Commission (the “Commission”), pursuant to Section 19(b)(1) of the Securities Exchange Act of 1934 (“Act”) ¹ and Rule 19b-4 thereunder,² a proposed rule change to amend its rules with respect to orders in open outcry to modify the ratios a complex order must meet to be considered eligible for complex order priority and permitted to be expressed in any net price increment that is not be less than $0.01. The Exchange also proposes to amend its rules to provide that if a complex order would trade in open outcry at the same net debit or credit price as another complex order, priority would go first to public customer orders in the Exchange's complex order book (“COB”), then to complex order bids and offers represented in the trading crowd, and then to all other orders and quotes in the COB.³ Finally, the Exchange proposes to simplify the definitions of the complex order types that may be made available on a class-by-class basis and remove references to certain specific complex order types that will no longer be defined. The proposed rule change was published for comment in the Federal Register on March 24, 2017.⁴ The Commission received no comments on the proposal.

¹ 15 U.S.C. 78s(b)(1).

² 17 CFR 240.19b-4.

³ The Exchange has represented that this methodology for prioritizing multiple complex orders for open outcry trading is consistent with the methodology applicable for prioritizing multiple simple orders for open outcry trading and how the Exchange has interpreted and applied complex order priority. See Notice, infra note 4, at 15087.

⁴ See Securities Exchange Act Release No. 80279 (March 20, 2017), 82 FR 15085 (“Notice”).

Section 19(b)(2) of the Act ⁵ provides that within 45 days of the publication of notice of filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The 45th day for this filing is May 8, 2017.

⁵ 15 U.S.C. 78s(b)(2).

The Commission is extending the 45-day time period for Commission action on the proposed rule change. The Commission finds that it is appropriate to designate a longer period to take action on the proposed rule change so that it has sufficient time to consider the Exchange's proposed rule change. Accordingly, pursuant to Section 19(b)(2) of the Act,⁶ the Commission designates June 22, 2017 as the date by which the Commission should either approve or disapprove, or institute proceedings to determine whether to disapprove, the proposed rule change.

⁶ 15 U.S.C. 78s(b)(2).

For the Commission, by the Division of Trading and Markets, pursuant to delegated authority.⁷
⁷ 17 CFR 200.30-3(a)(12).
Eduardo A. Aleman,
Assistant Secretary.

[FR Doc. 2017-09525 Filed 5-10-17; 8:45 am]

BILLING CODE 8011-01-P